DEPARTMENT OF TRANSPORTATION

Office of the Secretary

Aviation Proceedings, Agreements Filed During the Week Ending July 26, 2002

The following Agreements were filed with the Department of Transportation under the provisions of 49 U.S.C. Sections 412 and 414. Answers may be filed within 21 days after the filing of the application.

Docket Number: OST-2002-12909.

Date Filed: July 22, 2002.

Parties: Members of the International Air Transport Association.

Subject: CAC/30/Meet/008/02 dated July 5, 2002 r-1 to r-8; Minutes—CAC/30/Meet/006/02 dated May 28, 2002; Intended effective date: October 1, 2002.

Docket Number: OST-2002-12920.

Date Filed: July 23, 2002.

Parties: Members of the International Air Transport Association.

Subject: PTC12 USA-EUR 0138 dated 25 June 2002, North Atlantic-USA-Europe (except between Austria,Czech Republic, France, Germany, Italy, Netherlands,Scandinavia) r1-r20; PTC12 USA-EUR 0140 dated 28 June 2002,Technical Correction; PTC12 USA-EUR 0143 dated 16 June 2002,Technical Correction; PTC12 USA-EUR 0139 dated 25 June 2002,North Atlantic-USA-Austria, Czech Republic, France,Germany, Italy, Netherlands, Scandinavia r21-r41,Minutes—PTC12 USA-EUR 0142 dated 16 July 2002,Tables—PTC12 USA-EUR FARES 0070 dated 28 June 2002,Intended effective date: 1 November 2002.

Docket Number: OST-2002-12921.

Date Filed: July 23, 2002.

Parties: Members of the International Air Transport Association.

Subject: CSC/24/Meet/006/2002 dated June 21, 2002, Finally Adopted Resolutions r1-r2,Minutes—CSC/24/Meet/007/2002 dated June 21, 2002,Intended effective date: 1 October 2002.

Docket Number: OST-2002-12934.

Date Filed: July 25, 2002.

Parties: Members of the International Air Transport Association.

Subject: PTC12 USA-EUR Fares 0071 dated 19 July 2002, Resolution 015h-USA Add-on Amounts between USA and UK,Intended effective date: 1 October 2002.

Dorothy Y. Beard,
Federal Register Liaison.

[FR Doc. 02-20250 Filed 8-8-02; 8:45 am]

BILLING CODE 4910-62-P